DEPARTMENT OF TRANSPORTATION

Federal Highway Administration

Environmental Impact Statement: Albany County, NY

AGENCY: Federal Highway Administration (FHWA), DOT.

ACTION: Notice of Intent.

SUMMARY: The FHWA is issuing this notice to advise the public that an environmental impact statement will be prepared for the proposed Interstate 87 (I-87) Exit 3, Airport Connector project in Albany County, New York.

FOR FURTHER INFORMATION CONTACT: Richard Frederick, P.E., Acting Regional Director, New York State Department of Transportation, Region One, 328 State Street, Schenectady, New York 12305, Telephone: (518) 388-0388; or Robert Arnold, Division Administrator, Federal Highway Administration, New York Division, Leo W. O'Brien Federal Building, 7th Floor, Clinton Avenue and North Pearl Street, Albany, New York 12207, Telephone: (518) 431-4127.

SUPPLEMENTARY INFORMATION: The FHWA, in cooperation with the New York State Department of Transportation (NYSDOT) will prepare an environmental impact statement (EIS) on a proposal to improve access between Interstate 87 (I-87), Wolf Road, and the Albany International Airport in Albany County, New York. The proposed improvement may involve the construction of a new interchange (Exit 3) on I-87. The primary goals of this project are to improve access between I-87, Wolf Road, and the Albany International Airport without precluding future, long-term I-87 mainline improvements while also improving operations and safety in the existing Exit 4 area.

Three alternatives are under consideration: The No Build Alternative, Upgrade Existing Exit 4 Alternative, and Construct a New Interchange (Exit 3) Alternative. Various ramp locations, grades and alignments and intersection improvements will be studied for the build alternatives. Each of the alternatives under consideration would provide pedestrian/bicyclist facilities to connect the existing sidewalks along Wolf Road and the multi-use path along Albany-Shaker Road. Each alternative will also replace the existing I-87 bridges over Albany-Shaker Road.

Letters describing the proposed action and soliciting comments will be sent to appropriate Federal, State, and local agencies, and to private organizations and citizens who have previously expressed interest in this proposal. Public information meetings and a public hearing will be held. Public notice will be given of the time and place of the meetings and hearings. The draft EIS will be available for public and agency review and comment. A formal NEPA scoping meeting will be held.

To ensure that the full range of issues related to this proposed action are addressed and all significant issues identified, comments and suggestions are invited from all interested parties. Comments or questions concerning this proposed action and the EIS should be directed to the NYSDOT or FHWA at the addresses provided above.

(Catalog or Federal Domestic Assistance Program Number 20.205, Highway Research, Planning and Construction. The regulations implementing Executive Order 12372 regarding intergovernmental consultation on Federal programs and activities apply to the program.)

Authority: 23 U.S.C. 315; U.S.C. 771.123.

Issued on: July 10, 2007.
Amy Jackson-Grove,
Assistant Division Administrator, Federal Highway Administration, Albany, New York.

[FR Doc. 07-3461 Filed 7-13-07; 8:45 am]

BILLING CODE 4910-22-M